DEPARTMENT OF HOMELAND SECURITY

Coast Guard

33 CFR Part 117

[Docket No. USCG-2009-0315]

Drawbridge Operation Regulations; Gulf Intracoastal Waterway, St. Petersburg Beach and South Pasadena, FL

AGENCY: Coast Guard, DHS.

ACTION: Notice of temporary deviation from regulations; request for comments.

SUMMARY: The Commander, Seventh Coast Guard District, has issued a temporary deviation from the regulation governing the operation of the Pinellas Bayway Structure “C” and Corey Causeway (SR 693) Bridges across the Gulf Intracoastal Waterway, miles 114 and 117.7, at St. Petersburg Beach, and South Pasadena, FL. This deviation will test a change to the drawbridge operation schedules to determine whether a permanent change to the schedule is needed. This deviation will allow both drawbridges to operate on a twice an hour schedule during the day. This deviation may be terminated/cancelled at any time via a Broadcast Notice to Mariners.

DATES: This deviation is effective from May 14, 2009, through 7 p.m. on May 31, 2009. Comments should be submitted by June 10, 2009.

ADDRESSES: You may submit comments identified by Coast Guard docket number USCG-2009-0315 using any one of the following methods:

1. Federal eRulemaking Portal:http://www.regulations.gov.

2. Fax: 202-493-2251.

3. Mail: Docket Management Facility (M-30), U.S. Department of Transportation, West Building Ground Floor, Room W12-140, 1200 New Jersey Avenue, SE., Washington, DC 20590-0001.

4. Hand delivery: Same as mail address above, between 9 a.m. and 5 p.m., Monday through Friday, except Federal holidays. The telephone number is 202-366-9329.

To avoid duplication, please use only one of these methods. See the “Public Participation and Request for Comments” portion of the SUPPLEMENTARY INFORMATION section below for instructions on submitting comments.

FOR FURTHER INFORMATION CONTACT: If you have questions on this test deviation, call Michael Lieberum, Bridge Branch at 305-415-6744. If you have questions on viewing or submitting material to the docket, call Renee V. Wright, Program Manager, Docket Operations, telephone 202-366-9826.

SUPPLEMENTARY INFORMATION:

Public Participation and Request for Comments

We encourage you to participate in this action by submitting comments and related materials. All comments received will be posted, without change, to http://www.regulations.gov and will include any personal information you have provided.

Submitting Comments

If you submit a comment, please include the docket number for this rulemaking (USCG-2008-1225), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a phone number in the body of your document so that we can contact you if we have questions regarding your submission.

To submit your comment online, go to http://www.regulations.gov, select the Advanced Docket Search option on the right side of the screen, insert “USCG-2009-0315” in the Docket ID box, press Enter, and then click on the balloon shape in the Actions column. If you submit submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, select the Advanced Docket Search option on the right side of the screen, insert USCG-2009-0315 in the Docket ID box, press Enter, and then click on the item in the Docket ID column. You may visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008 issue of the Federal Register (73 FR 3316).

Background and Purpose

The Pinellas Bayway Structure “C” bridge has a vertical clearance of 25 feet in the closed position and the Corey Causeway bridge has a vertical clearance of 23 feet in the closed position.

Under the current operating regulations at 33 CFR 117.287(e), the draw of the Pinellas Bayway Structure “C” bridge, mile 114, at St. Petersburg Beach shall open on signal; except that from 7 a.m. to 7 p.m., the draw need open only on the hour, twenty minutes past the hour, and forty minutes past the hour. Per 33 CFR 117.287(f), the draw of the Corey Causeway (SR 693) bridge, mile 117.7 at South Pasadena, shall open on signal; except that, from 8 a.m. to 7 p.m. Monday through Friday, and 10 a.m. to 7 p.m. Saturdays and Sundays and Federal holidays, the draw need to open only on the hour, twenty minutes after the hour, and forty minutes after the hour.

The local mayor has requested that the Coast Guard evaluate a twice an hour schedule. The Florida Department of Transportation, the bridge owner, has a concern related to the length of time during bridge openings on the weekends due to the accumulation of vessels between openings which may directly impact vehicle traffic. For this reason, FDOT will be monitoring the traffic flow through the area during this test and may recommend that the test be terminated at any point that vehicle traffic patterns show a detriment rather than an improvement in traffic flow. This test may have a minor impact on vessel traffic as there will be two openings an hour rather than three during these same time periods.

This deviation will start on the date signed and will continue until 7 p.m. on May 31, 2009, unless otherwise terminated/cancelled due to heavier than normal traffic patterns. The Pinellas Bayway Structure “C” will open on demand except that from 7 a.m. to 7 p.m. the bridge will open on the hour and half-hour and Corey Causeway bridges will open on demand except that from 7 a.m. to 7 p.m. the bridge will open on the quarter and three-quarter hour, seven days a week. Vessels that may pass under the bridges without an opening may do so at any time. Public vessels of the United States and tugs with tows must be passed at any time.

In accordance with 33 CFR 117.35(e), the drawbridge must return to its regular operating schedule immediately at the end of the designated time period. This deviation from the operating regulations is authorized under 33 CFR 117.35.

Dated: 14 May 2009.
R.S. Branham,
Rear Admiral, U.S. Coast Guard Commander, Seventh Coast Guard District.

[FR Doc. E9-12822 Filed 6-1-09; 8:45 am]

BILLING CODE 4910-15-P